DEPARTMENT OF THE INTERIOR

Bureau of Indian Affairs

Tribal Consultation on Indian Education Topics

AGENCY: Bureau of Indian Affairs, Interior.

ACTION: Notice.

SUMMARY: The Bureau of Indian Affairs (BIA) is announcing that it will conduct tribal consultation meetings to obtain oral and written comments concerning potential issues in Indian Education Programs. This notice announces the dates and locations of the consultation meetings.

DATES: Written comments must be received on or before August 2, 2001. The consultation meetings will be held on July 9, 12, 17, 19, 22 and 25, 2001. Several dates and locations were scheduled to coincide with meetings of various Indian education organizations. All meetings will begin at 9 a.m. and continue until 3 p.m. (local time) or until all meeting participants have had an opportunity to make comments.

ADDRESSES: Send written comments to the Bureau of Indian Affairs, Office of Indian Education Programs, Attention: Mr. William Mehojah, Jr., MS-3512 MIB, OIE-32, 1849 C Street NW., Washington, DC 20240, or you may hand deliver them to Room 3512 at the same address. Comments may also be telefaxed to 202-208-3312. See SUPPLEMENTARY INFORMATION for locations of the consultation meetings.

FOR FURTHER INFORMATION CONTACT: Mr. Kenneth Whitehorn or Georgia Braun, 202-208-4976.

SUPPLEMENTARY INFORMATION: The meetings are a follow-up to similar meetings conducted by the Office of Indian Education Programs since 1990. The purpose of the consultation, as required by 25 U.S.C. 2011, is to provide Indian tribes, school boards, parents, Indian organizations, and other interested parties an opportunity to comment on potential issues raised during previous consultation meetings or issues being considered by the BIA regarding Indian education programs.

The potential issues which will be set forth in a tribal consultation booklet to be issued prior to the meetings are as follows:

(1) School Construction

(2) Consultation

(3) Realignment of Special Education Coordinators and Education Specialists

(4) Open Item

A consultation booklet for the July meetings is being distributed to federally-recognized Indian tribes, Bureau Regional and Agency Offices, and Bureau-funded schools. The booklets will also be available from local contact persons at each meeting.

Meeting Schedule

Date | Location | Local contact | Phone numbers
July 9, 2001 | Albuquerque, NM | Ed Parisian | (505) 753-1465
July 12, 2001 | Aberdeen, SD | Cherie Farlee | (605) 964-8722
July 17, 2001 | Gallup, NM | Larry Holman | (505) 786-6150
July 19, 2001 | Phoenix, AZ | Joe Frazier | (505) 248-6544
July 22 and 25, 2001 | Portland, OR | John Reimer | (505) 872-2743

Written Comments

Comments, including names, street addresses, and other contact information of respondents, will be available for public review at the address listed under ADDRESSES section during regular business hours (7:45 a.m. to 4:15 p.m. EST), Monday through Friday, except Federal holidays. Individual respondents may request confidentially. If you wish us to withhold your name, street address, and other contact information (such as fax or phone number) from public review or from disclosure under the Freedom of Information Act, you must state this prominently at the beginning of your comment. We will honor your request to the extent allowable by law. We will make available for public inspection in their entirety all submissions from organizations or businesses, and from individuals identifying themselves as representatives or officials of organizations or businesses.

This notice is published in accordance with the authority delegated by the Secretary of the Interior to the Assistant Secretary—Indian Affairs by 209 DM 8.1.

Dated: June 13, 2001.
James H. McDivitt,
Deputy Assistant Secretary—Indian Affairs (Management).

[FR Doc. 01-15812 Filed 6-25-01; 8:45 am]

BILLING CODE 4310-02-P